DEPARTMENT OF JUSTICE

Federal Bureau of Prisons

Notice of Availability of the Finding of No Significant Impact Concerning a Proposal To Award a Contract for New Low Security Beds to One Private Contractor To House Approximately 2,000 Federal, Low-Security, Adult Male, Non-US Citizen, Criminal Aliens at a Contractor-Owned, Contractor-Operated Correctional Facility Under the CAR 15, Requirement A Initiative

AGENCY: Federal Bureau of Prisons, U.S. Department of Justice.

ACTION: Finding of No Significant Impact.

SUMMARY: The U.S. Department of Justice, Federal Bureau of Prisons (BOP) announces the availability of the Finding of No Significant Impact (FONSI) concerning the Criminal Alien Requirement 15, Requirement A Environmental Assessment (EA) for the proposal to award one contract to house up to 2,000 federal, low-security, adult males, non-US citizen, criminal aliens within one existing contractor owned, contractor operated facility.

Backround Information

Pursuant to Section 102, 42 U.S.C. 4332, of the National Environmental Policy Act (NEPA) of 1969, as amended and the Council on Environmental Quality Regulations for Implementing NEPA (40 CFR parts 1500-1508), and the BOP Procedures for Implementing NEPA (28 CFR 61, Appendix A), the BOP prepared an EA to analyze the impacts of awarding one contract to house up to 2,000 low-security, adult male, non-US citizen, criminal aliens within one existing contractor-owned and contractor-operated correctional facility.

It is anticipated that the number of inmates will continue to rise for several reasons. Federal court sentencing guidelines are resulting in longer terms of confinement for serious crimes. Moreover, there is an increase in immigration and offenders, along with a greater effort to combat organized crime and trafficking. As a result, existing BOP facilities are at capacity. In response, the BOP has focused on ways to reduce prison overcrowding by requesting additional contract beds for low security, adult male criminal aliens, expansion of current facilities, and building and operating new medium and high security facilities. The purpose of the project is to acquire additional bed space to address the need to reduce overcrowding in existing BOP facilities as a result of increases in convictions and sentence terms.

The BOP requires flexibility in managing existing low-security bed space as well as the anticipated future needs for low-security bed space. Use of an existing contractor-owned and operated correctional facility provides the BOP the flexibility needed to meet population capacity needs in a timely manner, conform to federal law, and maintain fiscal responsibility while successfully meeting the mission of the BOP.

The process to identify contracting opportunities for securing additional inmate bed space in support of the increasing needs of the BOP involved the BOP advertising for interested vendors to respond to the request for proposal (RFP) with options for meeting the requirements.

Based on the responses to the solicitation, the BOP had two potential alternatives. The solicitation RFP-PCC-0022 (CAR 15 Requirement A) identified the evaluation criteria under which each offeror's proposal would be considered and evaluated. The non-price based evaluation criteria that consists of the following in descending order of importance:

• Past Performance

• Technical Proposal

• Environment

• Small Disadvantaged Business Participation

A geographical restriction associated with the RFP required the facility to be located in one of the following states: Ohio, Michigan, Pennsylvania, Delaware, New Jersey, or New York.

Project Information

The proposed action is to award one contract to house up to 2,000 federal low-security, adult male, non-US citizen, criminal aliens at an existing contractor-owned and contractor-operated correctional facility. Under the Proposed Action, the selected contractor would be required to operate the facility in a manner consistent with the mission and requirements of the BOP. All inmate services would be developed in a manner that complies with the BOP's contract requirements, as well as applicable federal, state, and local laws and regulations. In addition, the facility would be within proximity, and have access to, ambulatory, fire and police protection services.

The federal inmates assigned to this facility would consist primarily of inmates with sentences of 90 months or less remaining to be served. Inmates are anticipated to be federal, low-security, adult male, non-US citizen, criminal aliens; however, the BOP may designate any inmate within its custody to serve their sentence in this facility.

Two existing privately owned and operated correctional facilities in Pennsylvania and Ohio were the only offers received in response to the BOP's solicitation for CAR 15 Requirement A. Each of the following existing facilities has been evaluated in this EA. In addition, the No Action Alternative is evaluated, to determine baseline conditions and comply with the provisions of NEPA.

• Moshannon Valley Correctional Facility. Located in Phillipsburg, Pennsylvania.

• Northeast Ohio Correctional Center. Located in Youngstown, Ohio.

No other facilities are under consideration by the BOP. Although the two alternatives have been evaluated within the EA, an environmentally preferred alternative has not been identified due to the pending contracting action.

Based on the analysis presented in the EA, there would be no significant impacts on environmental and cultural resources, socioeconomics, environmental justice, community facilities and services, transportation and traffic, infrastructure and utilities, noise, and air quality as a result of the implementation of the proposed action under either Alternative 1 or Alternative 2. Therefore, the BOP has determined there would be no significant impacts associated with the implementation of the proposed action.

Availability of Finding of no Significant Impact

The FONSI is available upon request. To request a copy of the FONSI, please contact: Thomas A. Webber, Chief, or Isaac Gaston, Site Selection Specialist, Capacity Planning and Construction Branch, Federal Bureau of Prisons, 320 First Street NW., Washington, DC 20534 Tel: 202-514-6470/Fax: 202-616-6024/Email: txwebber@bop.gov or igaston@bop.gov.

Dated: September 17, 2014.
Thomas A. Webber,
Chief, Capacity Planning and Construction Branch, Federal Bureau of Prisons.

[FR Doc. 2014-22616 Filed 9-25-14; 8:45 am]

BILLING CODE P